DEPARTMENT OF ENERGY

Federal Energy Regulatory Commission

Combined Notice of Filings #1

Take notice that the Commission received the following electric rate filings:

Docket Numbers: ER11-4380-006; ER11-4381-006.

Applicants: Bellevue Solar, LLC, Yamhill Solar, LLC.

Description: Notice of Non-Material Change in Status of Bellevue Solar, LLC, et al.

Filed Date: 3/10/21.

Accession Number: 20210310-5253.

Comments Due: 5 p.m. ET 3/31/21.

Docket Numbers: ER15-356-015; ER15-357-015.

Applicants: Chief Conemaugh Power, LLC, Chief Keystone Power, LLC.

Description: Notice of Change in Status of Chief Conemaugh Power, LLC, et al.

Filed Date: 3/11/21.

Accession Number: 20210311-5151.

Comments Due: 5 p.m. ET 4/1/21.

Docket Numbers: ER21-1069-001.

Applicants: PJM Interconnection, L.L.C.

Description: Tariff Amendment: Errata to Notice of Cancellation of SA No. 5670; Queue No. AE2-151 to be effective 2/27/2021.

Filed Date: 3/11/21.

Accession Number: 20210311-5158.

Comments Due: 5 p.m. ET 4/1/21.

Docket Numbers: ER21-1321-000.

Applicants: Harbor Cogeneration Company, LLC.

Description: Petition for Limited Waiver or Alternative Remedial Relief of Harbor Cogeneration Company, LLC.

Filed Date: 3/10/21.

Accession Number: 20210310-5233.

Comments Due: 5 p.m. ET 3/31/21.

Docket Numbers: ER21-1322-000.

Applicants: Pacific Gas and Electric Company.

Description: § 205(d) Rate Filing: CDWR Work Performance Agreement for Buena Vista Pumping Plant (TO SA 275) to be effective 5/11/2021.

Filed Date: 3/11/21.

Accession Number: 20210311-5009.

Comments Due: 5 p.m. ET 4/1/21.

Docket Numbers: ER21-1325-000.

Applicants: ISO New England Inc., New Hampshire Transmission, LLC.

Description: Compliance filing: New Hampshire Transmission, LLC; Supplemental Order No. 864 Compliance Filing to be effective 1/1/2020.

Filed Date: 3/11/21.

Accession Number: 20210311-5046.

Comments Due: 5 p.m. ET 4/1/21.

Docket Numbers: ER21-1326-000.

Applicants: PJM Interconnection, L.L.C.

Description: Tariff Cancellation: Notice of Cancellation of ISA, Service Agreement No. 5838; Queue No. AC2-078 to be effective 4/16/2021.

Filed Date: 3/11/21.

Accession Number: 20210311-5052.

Comments Due: 5 p.m. ET 4/1/21.

Docket Numbers: ER21-1328-000.

Applicants: Midcontinent Independent System Operator, Inc., American Transmission Company LLC.

Description: § 205(d) Rate Filing: 2021-03-11_SA 2804 ATC-City of Richland Center 1st Rev CFA to be effective 5/11/2021.

Filed Date: 3/11/21.

Accession Number: 20210311-5108.

Comments Due: 5 p.m. ET 4/1/21.

Docket Numbers: ER21-1329-000.

Applicants: Midcontinent Independent System Operator, Inc., American Transmission Company LLC.

Description: § 205(d) Rate Filing: 2021-03-11_SA 2769 ATC-City of Reedsburg 1st Rev CFA to be effective 5/11/2021.

Filed Date: 3/11/21.

Accession Number: 20210311-5120.

Comments Due: 5 p.m. ET 4/1/21.

Docket Numbers: ER21-1331-000.

Applicants: Southwest Power Pool Inc., Southwest Power Pool Market Monitoring Unit.

Description: Request for Limited Waiver of Tariff Provisions, et al. of Southwest Power Pool, Inc.

Filed Date: 3/11/21.

Accession Number: 20210311-5190.

Comments Due: 5 p.m. ET 3/16/21.

Take notice that the Commission received the following PURPA 210(m)(3) filings:

Docket Numbers: QM21-10-000.

Applicants: Old Dominion Electric Cooperative.

Description: Application of Old Dominion Electric Cooperative to Terminate Its Mandatory Purchase Obligation under the Public Utility Regulatory Policies Act of 1978.

Filed Date: 3/10/21.

Accession Number: 20210310-5247.

Comments Due: 5 p.m. ET 4/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 11, 2021.
Nathaniel J. Davis, Sr.,
Deputy Secretary.

[FR Doc. 2021-05497 Filed 3-16-21; 8:45 am]

BILLING CODE 6717-01-P